DEPARTMENT OF COMMERCE

Economic Development Administration

Agency Information Collection Activities; Submission to the Office of Management and Budget (OMB) for Review and Approval; Comment Request; Regional Economic Development Data Collection Instrument

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 16, 2022 (87 FR 68674) during a 60-day comment period. This notice allows for an additional 30 days for public comments.

Agency: Economic Development Administration (EDA), Commerce.

Title: Regional Economic Development Data Collection Instrument.

OMB Control Number: New information collection.

Form Number(s): None.

Type of Request: Regular submission; new information collection.

Estimated Number of Respondents and Frequency: A total of 21 coalitions (with a designated lead) will respond on a quarterly basis. As the Build Back Better Regional Challenge is a new grant program, EDA anticipates that these estimates will be further refined based on data generated during the period of performance of Build Back Better Regional Challenge grants.

Estimated Average Hours per Response: 2.5 hours per respondent/per quarter.

Estimated Burden Hours: 210.

Needs and Uses: To effectively administer and monitor its economic development assistance programs, EDA collects certain information from applications for, and recipients of, EDA investment assistance. The purpose of this notice is to seek comments from the public and other Federal agencies on a request for a new information collection for recipients of awards under the EDA American Rescue Plan Act (ARPA) Build Back Better Regional Challenge.

The proposed information collection will employ an innovative mixed methods approach to gather traditional metrics in addition to qualitative data on all regions participating in the Build Back Better Regional Challenge program. Secondary data will be gathered and monitored for each of the regions/awardees. A quarterly questionnaire will be sent to each of the BBBRC coalition leads which will gather the relevant data and stories for each of the 21 BBBRC coalitions, resulting in coalition regional impact evaluation, resources, and tools for regional economic development decision-makers.

The collection will explore several thematic areas for the Build Back Better Regional Challenge, where each of the following areas are based on survey scope of work themes:

1. Accelerating innovation in emerging technologies to gain an understanding of the long-term impact of economic and social sectors;

2. Helping workers access information on new job opportunities, job placement, and job training and prepare for and be hired into good jobs;

3. Increasing new business growth and entrepreneurial activities within industry sectors;

4. Building critical infrastructure such as roads, water and sewer miles, business and industries to allow for economic development and growth; and

5. Helping businesses adopt new technologies so that they may enter new markets, increasing their economic capacity and overall sustainability.

With each of these categories of questions, organized by thematic area and noted above, there will be an equity-based questions to support greater understanding of how equity is being implemented throughout regional economic development projects.

Coalition leads will respond to the appropriate thematic area, answering questions related to the following process and progress;

• Reflections and updates on the coalition implementation process and progress;

• The ability to secure additional non-federal investments;

• Detailing the programs, training, and curricula developed/launched for job training/workforce development; and

• Job creation, wage growth, and existing employee growth and development.

The collection instrument also includes questions related to the overall programmatic experience such as Community of Practice support.

Affected Public: Recipients of Build Back Better Regional Challenge awards, which may include a(n): District Organization; Indian Tribe or a consortium of Indian Tribes; State, county, city, or other political subdivision of a State, including a special purpose unit of a state or local government engaged in economic or infrastructure development activities or a consortium of political subdivisions; Institution of Higher Education or a consortium of institutions of higher education; or Public or private non-profit organization or association, including labor unions, acting in cooperation with officials of a political subdivision of a State.

Respondent's Obligation: Mandatory

Legal Authority: The Public Works and Economic Development Act of 1965 (42 U.S.C. 3121 et seq).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection.

Sheleen Dumas,
Department PRA Clearance Officer, Office of the Chief Information Officer, Commerce Department.

[FR Doc. 2023-02387 Filed 2-3-23; 8:45 am]

BILLING CODE 3510-34-P